DEPARTMENT OF TRANSPORTATION

Federal Aviation Administration

[Summary Notice No. PE-2009-08]

Petitions for Exemption; Summary of Petitions Received

AGENCY: Federal Aviation Administration (FAA), DOT.

ACTION: Notice of petitions for exemption received.

SUMMARY: This notice contains a summary of certain petitions seeking relief from specified requirements of 14 CFR. The purpose of this notice is to improve the public's awareness of, and participation in, this aspect of FAA's regulatory activities. Neither publication of this notice nor the inclusion or omission of information in the summary is intended to affect the legal status of any petition or its final disposition.

DATE: Comments on petitions received must identify the petition docket number involved and must be received on or before March 16, 2009.

ADDRESSES: You may send comments identified by Docket Number FAA-2008-1260 using any of the following methods:

• Government-Wide Rulemaking Web Site: Go to http://www.regulations.gov and follow the instructions for sending your comments electronically.

• Mail: Send comments to the Docket Management Facility; U.S. Department of Transportation, 1200 New Jersey Avenue, SE., West Building Ground Floor, Room W12-140, Washington, DC 20590.

• Fax: Fax comments to the Docket Management Facility at 202-493-2251.

• Hand Delivery: Bring comments to the Docket Management Facility in Room W12-140 of the West Building Ground Floor at 1200 New Jersey Avenue, SE., Washington, DC, between 9 a.m. and 5 p.m., Monday through Friday, except Federal holidays.

• Docket: To read background documents or comments received, go to http://www.regulations.gov at any time or to the Docket Management Facility in Room W12-140 of the West Building Ground Floor at 1200 New Jersey Avenue, SE., Washington, DC, between 9 a.m. and 5 p.m., Monday through Friday, except Federal holidays.

SUPPLEMENTARY INFORMATION: We will post all comments we receive, without change, to http://www.regulations.gov, including any personal information you provide. Using the search function of our docket web site, anyone can find and read the comments received into any of our dockets, including the name of the individual sending the comment (or signing the comment for an association, business, labor union, etc.). You may review DOT's complete Privacy Act Statement in the Federal Register published on April 11, 2000 (65 FR 19477-78).

Background

On February 11, 2009 (74 FR 6945), the FAA published a petition for exemption from the Aeronautical Repair Station Association. However, the description of relief sought was inaccurate. This notice clarifies the petitioner's request.

The Correction

In the issue of February 11, 2009, on page 6945, in the third column, in the Description of Relief Sought section, the summary should read “On behalf of its members, the Aeronautical Repair Station Association (ARSA) seeks an exemption from part 121, appendices I and J. Specifically, ARSA seeks an exemption for any person(s) using LONG-LOK Fasteners Corporation to accomplish Airworthiness Directive (AD) 93-05-16, any entities called to perform required work in an AD without an existing FAA/DOT drug and alcohol program and any person(s) performing alterations for a covered employer.”

FOR FURTHER INFORMATION CONTACT: Tyneka Thomas (202) 267-7626 or Laverne Brunache (202) 267-3133, Office of Rulemaking, Federal Aviation Administration, 800 Independence Avenue, SW., Washington, DC 20591.

This notice is published pursuant to 14 CFR 11.85.

Pamela Hamilton-Powell,
Director, Office of Rulemaking.

[FR Doc. E9-3895 Filed 2-23-09; 8:45 am]

BILLING CODE 4910-13-P